DEPARTMENT OF THE INTERIOR

Fish and Wildlife Service

[FWS-R2-ES-2014-0053; 20124-1112-0000-F2]

Southern Edwards Plateau Environmental Impact Statement and Habitat Conservation Plan; City of San Antonio and Bexar County; Regional Habitat Conservation Plan

AGENCY: Fish and Wildlife Service, Interior.

ACTION: Notice of availability and announcement of public hearings.

SUMMARY: Bexar County and the City of San Antonio (applicants) have applied to the U.S. Fish and Wildlife Service (Service) for an incidental take permit (ITP, TE-48571B-0) under the Endangered Species Act of 1973, as amended (Act). The requested permit would authorize incidental take of nine federally listed species in Bexar County and the City of San Antonio. The applicants have completed a draft Habitat Conservation Plan, referred to as the Southern Edwards Plateau (SEP dHCP), as part of the application package. The Service also announces the availability of a draft Environmental Impact Statement (dEIS), which has been prepared to evaluate the permit application in accordance with the requirements of the National Environmental Policy Act (NEPA). We are making the permit application package, including the SEP dHCP and dEIS, available for public review and comment.

DATES: Submission of Comments: We will accept comments received or postmarked on or before March 19, 2015. Comments submitted electronically using the Federal eRulemaking Portal (see ADDRESSES section below) must be received by 11:59 p.m. Eastern Time on the closing date. Any comments that we receive after the closing date may not be considered in the final decision on these actions.

Public Meetings: The Service will hold public meetings during the public comment period. The dates, times, and locations of these meetings will be noticed in local newspapers at least 2 weeks before each meeting and will also be posted on the Web sites http://www.fws.gov/southwest/es/AustinTexas/ and http://www.sephcp.com.

ADDRESSES: Obtaining SEP dHCP and dEIS for Review: You may obtain copies of the dEIS and dHCP by going to the Service's Web site at http://www.fws.gov/southwest/es/AustinTexas/, the SEP's Web site at http://www.sephcp.com, or at the Federal eRulemaking Portal at http://www.regulations.gov (Docket Number FWS-R2-ES-2014-0053). Alternatively, you may obtain compact disks with electronic copies of these documents by writing to Field Supervisor, U.S. Fish and Wildlife Service, 10711 Burnet Road, Suite 200, Austin, TX 78758; calling (512) 490-0057; or faxing (512) 490-0974. A limited number of printed copies of the SEP dHCP and dEIS are also available, by request, from the Field Supervisor. Copies of the SEP dHCP and dEIS are also available for public inspection and review at the following locations, by appointment only:

• Department of the Interior, Natural Resources Library, 1849 C St. NW., Washington, DC 20240.

• U.S. Fish and Wildlife Service, 500 Gold Avenue SW., Room 4012, Albuquerque, NM 87102.

• U.S. Fish and Wildlife Service, 10711 Burnet Road, Suite 200, Austin, TX 78758.

Obtaining Incidental Take Permit Application for Review

Persons wishing to review the application may obtain a copy by writing to the Regional Director, U.S. Fish and Wildlife Service, P.O. Box 1306, Room 4012, Albuquerque, NM 87103.

Submitting Comments

To submit written comments, please use one of the following methods, and note that your comment is in reference to the SEP dHCP and dEIS:

• Electronically: Go to the Federal eRulemaking Portal at http://www.regulations.gov. Follow the instructions for submitting comments on Docket No. FWS-R2-ES-2014-0053.

• U.S. Mail: Public Comments Processing, Attn: FWS-R2-ES-2014-0053; Division of Policy and Directives Management; U.S. Fish and Wildlife Service; MS: BPHC; 5275 Leesburg Pike; Falls Church, VA 22041-3803.

• Public Meetings: We will also accept written or oral comments at the public meetings (see DATES).

We request that you submit comments by only the methods described above. We will post all information received on http://www.regulations.gov. This generally means that we will post any personal information you provide us (see the Public Availability of Comments section below for more information).

FOR FURTHER INFORMATION CONTACT: Adam Zerrener, Field Supervisor, U.S. Fish and Wildlife Service, 10711 Burnet Road, Suite 200, Austin, TX 78758; (512) 490-0057 (telephone).

SUPPLEMENTARY INFORMATION: Bexar County and the City of San Antonio (applicants) have applied to the U.S. Fish and Wildlife Service (Service) for an incidental take permit (ITP, TE-48571B-0) under section 10(a)(1)(B) of the Endangered Species Act of 1973, as amended (16 U.S.C. 1531 et seq.; Act). The requested permit, which would be in effect for a period of 30 years, if granted, would authorize incidental take of the following federally listed species: Golden-cheeked warbler (Setophaga [=Dendroica] chrysoparia) (GCWA), black-capped vireo (Vireo atricapilla) (BCVI), Government Canyon Bat Cave spider (Neoleptoneta microps), Madla Cave meshweaver (Cicurina madla), Braken Cave meshweaver (Cicurina venii), Government Canyon Bat Cave meshweaver (Cicurina vespera), Rhadine exilis (no common name), Rhadine infernalis (no common name), and Helotes mold beetle (Batrisodes venyivi) (collectively, covered species).

Incidental take would be covered in Bexar County and the City of San Antonio, including current and future portions of the City's extra-territorial jurisdiction (ETJ), which currently extends outside of Bexar County into Comal, Medina, and Kendall Counties. However, the City is projected to expand into Bandera County in the future. Therefore, the permit area—i.e., where incidental take will be permitted—includes Bexar County and those portions of the City's ETJ that do/will expand into Medina, Kendall, and Bandera Counties over the life of the permit. While the ETJ currently extends into Comal County, incidental take will not be covered other than on preserves, since Comal County has its own habitat conservation plan (HCP).

Covered activities include construction, use, and/or maintenance of land development projects; farm and ranch improvements; commercial or industrial projects; construction, maintenance, or improvement of public infrastructure; installation and/or maintenance of utility infrastructure; construction, use, maintenance and/or expansion of quarries, gravel mining, or other similar extraction projects; and any activities necessary to manage habitat for the covered species that could temporarily result in incidental take. The applicants have completed a draft Habitat Conservation Plan, referred to as the Southern Edwards Plateau (SEP dHCP), as part of the application package.

The Service also announces the availability of a draft Environmental Impact Statement (dEIS), which has been prepared to evaluate the permit application in accordance with the requirements of the National Environmental Policy Act (42 U.S.C. 4321 et seq.; NEPA). We are making the permit application package, including the dHCP and dEA, available for public review and comment.

Background

We initially prepared a notice of intent (NOI) to prepare an EIS, which was published in the Federal Register on April 27, 2011 (76 FR 23619). We also held public scoping meetings in connection with the applicants' requested permit. A summary of comments provided during the 2011 scoping period, which included public meetings held June 6, 2011, in Bandera, Texas; June 7, 2011, Boerne, Texas; June 9, 2011, Blanco, Texas; June 13, 2011, Kerrville, Texas; and June 14, 2011, Helotes, Texas, are available on the Service's Web site at http://www.fws.gov/southwest/es/AustinTexas/ and on the applicants' Web site at http://www.sephcp.com (Appendix F of the dEIS).

Proposed Action

The proposed action, involves the issuance of an ITP by the Service for the covered activities in the permit area, pursuant to section 10(a)(1)(B) of the Act. The ITP would cover “take” of the covered species associated with public and private projects occurring within the permit area.

The requested term of the ITP is 30 years. To meet the requirements of a section 10(a)(1)(B) ITP, the applicants developed and propose to implement the SEP dHCP, which describes the conservation measures the applicants have agreed to undertake to minimize and mitigate for the impacts of the proposed incidental take of the covered species to the maximum extent practicable, and ensure that incidental take will not appreciably reduce the likelihood of the survival and recovery of these species in the wild.

Section 9 of the Act and its implementing regulations prohibit “take” of fish and wildlife species listed as threatened or endangered under section 4 of the Act. However, section 10(a)(1)(B) of the Act authorizes us to issue permits to take listed wildlife species where such take is incidental to, and not the purpose of, otherwise lawful activities and where the applicant meets certain statutory requirements.

Alternatives

Four alternatives to the proposed action we are considering as part of this process are:

1. No Action Alternative. Under the No Action Alternative, Bexar County and the City of San Antonio would not seek, and the Service would not issue, an ITP. Under this alternative, compliance with the Act would continue to occur only on an individual basis through project-specific consultations with the Service. Local governments, business entities, private landowners, and others would independently determine whether or not ESA compliance is necessary for a particular project and, if needed, would work with the Service to obtain authorization for incidental take. Each independent consultation would require an analysis of the incidental take and impacts to listed species, the identification and implementation of appropriate and practicable mitigation measures, and the preparation of appropriate documentation to support the permitting action.

Mitigation requirements would be individually negotiated with the Service on the basis of the level of impact to listed species and the conservation value of the mitigation options and opportunities available to the individual applicant. Possible forms of mitigation could include on-site preservation of habitat, acquisition of off-site preserve lands, or purchase of conservation credits from an independent conservation bank. With the exception of conservation bank credit purchases, it is likely that many preserve lands offered as mitigation for individual projects would be relatively small, isolated, and/or widely distributed across the region.

2. Ten-Percent Participation Alternative. The 10-Percent Participation Alternative would be a regional HCP that is sized to address only 10 percent of the anticipated future habitat losses for the covered species over the next 30 years within the permit area. Therefore, this alternative would request substantially less incidental take authorization for the covered species and would (at full implementation) result in proportionately less conservation within the plan area. With a smaller plan, the overall estimated costs for implementation would be less than one-half of the estimated cost to implement the proposed SEP dHCP. However, since there would be fewer participants paying fees to use the plan, a larger portion of the revenue needed for implementation of this alternative would require more public funding.

3. Single-County Alternative. The Single-County Alternative would essentially be limited to the extent of the permittees' jurisdictions. This would include both incidental take coverage and mitigation. It is assumed that the plan area for the Single-County Alternative would include Bexar County and the area within 10 miles outside of Bexar County (which would be generally sufficient to accommodate the City of San Antonio's current extra-territorial jurisdiction and possible future expansions). As habitat for the covered species within Bexar County only occurs in the northwest half of the county, the plan area for this alternative is still roughly equivalent to the geographic area of a single central Texas county.

Since all mitigation would occur in the vicinity of San Antonio, the price of land is substantially higher compared to more rural parts of the plan area. This alternative assumes that approximately 75 percent of the GCWA and BCVI preserve lands would be acquired in relatively “suburban” areas, and approximately 25 percent of the land would be acquired in relatively rural areas. This distribution of preserve lands would have a significant impact on the method of acquisition (fee simple vs. easement), the anticipated cost for acquisition, and the costs to manage suburban preserves compared to rural preserves. This alternative could cost nearly twice as much overall to implement over 30 years compared to the proposed alternative.

4. Increased Mitigation Alternative. The Increased Mitigation Alternative would implement recommendations passed by the SEP HCP's Biological Advisory Team (BAT) pertaining to mitigation for the GCWA and the karst invertebrates (BCVI mitigation would be the same as the Proposed Alternative). These recommendations were also strongly favored by many members of the Citizens Advisory Committee (CAC).

The BAT passed a recommendation calling for impacts to GCWA habitat within Bexar County to be mitigated at a 3:1 ratio (i.e., 3 acres of habitat protected for each acre of direct habitat loss) and that at least 60 percent of that mitigation be placed within Bexar County or within 5 miles outside of Bexar County. The BAT also passed a recommendation that the karst preserve system be sized to achieve roughly twice the level of conservation specified by the Service's downlisting criteria for the karst invertebrates. For the purpose of modeling this alternative, it is assumed that all of the incidental take of the GCWA requested by the Permittees would be mitigated at a 3:1 ratio and that 60 percent of the GCWA preserve system would be acquired in relatively suburban parts of the Plan Area, with the remaining preserve lands acquired in rural areas. This recommendation is modeled as a requirement to acquire approximately 2,000 acres of recovery-quality karst preserves over 30 years, with at least two high-quality (100 acres each) and four medium-quality preserves (50 acres each) created in each of the five regions where the karst invertebrates occur.

Similar to the Single-County Alternative, this Increased Mitigation Alternative requires the acquisition of a large portion of the preserve system in relatively high-cost suburban or (for the karst preserves) urban areas, which would disproportionately increase the expected preserve acquisition and management costs. This alternative would achieve a higher level of conservation for the GCWA and karst invertebrates, but at a financial cost that would be approximately 275 percent higher than the proposed SEP HCP.

Public Availability of Comments

Written comments we receive become part of the public record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Authority

We provide this notice under section 10(c) of the Act and its implementing regulations (50 CFR 17.22 and 17.32) and NEPA and its implementing regulations (40 CFR 1506.6).

Joy E. Nicholopoulos,
Acting Regional Director, Southwest Region, Albuquerque, New Mexico.

[FR Doc. 2014-29525 Filed 12-18-14; 8:45 am]

BILLING CODE 4310-55-P